DEPARTMENT OF LABOR

Employment and Training Administration

[NAFTA—05455]

Harris Welco, J.W. Harris Company, Kings Mountain, NC; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on October 22, 2001, in response to a petition filed by a company official on behalf of workers at Harris Welco, J.W. Harris Company, Kings Mountain, North Carolina.

The petitioner has requested that the petition be withdrawn. Consequently, further investigation in this case would serve no purpose, and the investigation has been terminated.

Signed at Washington, DC, this 2nd day of November, 2001.
Linda G. Poole,
Certifying Officer, Division of Trade Adjustment Assistance.

[FR Doc. 01-28978 Filed 11-19-01; 8:45 am]

BILLING CODE 4510-30-M